DEPARTMENT OF HOMELAND SECURITY

Coast Guard

33 CFR Part 117

[Docket No. USCG-2008-0229, Formerly CGD05-07-021]

RIN 1625-AA09

Drawbridge Operation Regulations; Atlantic Intracoastal Waterway (AIWW), Albemarle and Chesapeake Canal, Chesapeake, VA

AGENCY: Coast Guard, DHS.

ACTION: Notice of proposed rulemaking; withdrawal.

SUMMARY: The Coast Guard is withdrawing its notice of proposed rulemaking concerning the proposed change to the regulations that govern the operation of the Centerville Turnpike (SR 170) Bridge, at AIWW mile 15.2, across the Albemarle and Chesapeake Canal in Chesapeake, Virginia. The requested change would have allowed the bridge to open on signal every hour on the half hour from 6:30 a.m. to 6:30 p.m., year round. The withdrawal is based on further investigation indicating that this change would not improve the schedule for both roadway and waterway users.

DATES: The proposed rule published on April 6, 2007 (72 FR 17065), is withdrawn on May 22, 2008.

ADDRESSES: The docket for this withdrawn rulemaking is available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet at http://www.regulations.gov.

FOR FURTHER INFORMATION CONTACT: If you have questions about this notice, call Bill H. Brazier, Bridge Management Specialist, Fifth Coast Guard District, at (757) 398-6422.

SUPPLEMENTARY INFORMATION:

Background

On April 6, 2007, we published a notice of proposed rulemaking (NPRM) entitled “Drawbridge Operation Regulations; Atlantic Intracoastal Waterway (AIWW), Albemarle and Chesapeake Canal, Chesapeake, VA” in the Federal Register (72 FR 17065). This rulemaking would have allowed the bridge to open on signal every hour on the half hour from 6:30 a.m. to 6:30 p.m., year round.

Withdrawal

The City of Chesapeake, which owns and operates this swing-type bridge, had requested a change to the existing regulations in an effort to improve the travel for mariners to arrive at the Great Bridge (S168) Bridge across the Albemarle and Chesapeake, at AIWW mile 12.0 at Chesapeake, (approximately three miles away).

The Coast Guard conducted a lengthy and thorough investigation with both roadway and waterway users. Our investigation revealed that the proposal would not improve the transit of waterway users because it would impose possibly hazardous and unnecessary delays on slower vessels, such as sailboats and trawlers, that are probably most of the transient vessels needing openings at the bridge. Additionally, all of the comments received during the comment period were in favor of keeping the current schedule.

Authority

This action is taken under the authority of 33 U.S.C. 499; 33 CFR 1.05-1; Department of Homeland Security Delegation No. 0170.1.

Dated: May 12, 2008.
Fred M. Rosa, Jr.,
Rear Admiral, United States Coast Guard, Commander, Fifth Coast Guard District.

[FR Doc. E8-11405 Filed 5-21-08; 8:45 am]

BILLING CODE 4910-15-P